ENVIRONMENTAL PROTECTION AGENCY

[FRL-7384-2]

Protection of Stratospheric Ozone: Notice of Revocation of Certification for Refrigerant Reclaimers, Under Section 608 of the Clean Air Act

AGENCY: Environmental Protection Agency (EPA).

ACTION: Notice of revocation.

SUMMARY: In accordance with 40 CFR 82.154, no person may sell or offer for sale for use as a refrigerant any class I or class II ozone-depleting substance consisting wholly or in part of used refrigerant unless the substance has been reclaimed by a certified reclaimer. All persons reclaiming used refrigerant for sale to a new owner are required to certify to the EPA Administrator in accordance with 40 CFR 82.164.

Through this action, EPA is announcing the revocation of refrigerant reclaimer certifications of Atlantic Refrigerants of Beaver, PA; C.F.C. Reclamation and Recycling Service, Inc. of Abilene, TX; CFC Technologies, Inc. of Chester, CT; Full Circle Refrigerant Reclaim Services of Fort Worth, TX; Purification Technologies, Inc. of Chester, CT; and Trane Systems and Sales of Charlotte, NC. This action means that these companies are no longer authorized to reclaim and sell used refrigerant in accordance with the regulations promulgated at 40 CFR part 82, subpart F.

On March 6, 2002 the U.S. Department of Justice announced that the certification holder for CFC Technologies, Inc. pled guilty to conspiring to smuggle ozone-depleting substances into the United States by means of false statements to U.S. Customs and EPA officials, as well as defrauding the Internal Revenue Service in its attempts to collect excise and income taxes on proceeds from the sale of contraband ozone-depleting substances. EPA finds these violations grounds to revoke CFC Technologies, Inc.’s reclaimer certification. CFC Technologies, Inc. was issued a letter of revocation on March 13, 2002 that included an explanation of the basis for EPA's decision.

On May 31, 2001, C.F.C. Reclamation and Recycling Service, Inc. (currently doing business as H&L Enterprise) notified EPA that the company was being dissolved and would no longer be in the business of reclaiming used refrigerant for sale to a new owner. On September 9, 2002, EPA notified C.F.C. Reclamation and Recycling Service, Inc. of the Agency's intent to revoke certification of the dissolved company. The correspondence also noted that EPA certification of reclaimers is not transferable, as noted in 40 CFR 82.164(f); therefore, any company assuming the ownership of C.F.C. Reclamation and Recycling Service, Inc. would be required to certify to EPA headquarters within 30 days of the change of ownership in order to sell used and reclaimed refrigerant to a new owner.

This action also acknowledges the voluntary withdrawal of previously certified reclaimers. Reclaimers requesting to be removed from the list of EPA-certified reclaimers include: Atlantic Refrigerants; Full Circle, Inc. and its previously certified subsidiaries; Purification Technologies, Inc.; and Trane Systems and Sales. On September 10, 2002, EPA notified these refrigerant reclaimers that the Agency had accepted their voluntary withdrawal, and that the Agency would officially revoke their reclaimer certification.

DATES: Atlantic Refrigerants of Beaver, PA; C.F.C. Reclamation and Recycling Service, Inc. of Abilene, TX; CFC Technologies, Inc. of Chester, CT; Full Circle Refrigerant Reclaim Services of Fort Worth, TX; Purification Technologies, Inc. of Chester, CT; and Trane Systems and Sales of Charlotte, NC had their EPA refrigerant reclaimer certifications revoked effective September 10, 2002.

FOR FURTHER INFORMATION CONTACT: Julius Banks; Stratospheric Program Implementation Branch, Global Programs Division, Office of Atmospheric Programs, Office of Air and Radiation; Mail Code: 6205J; 1200 Pennsylvania Ave., NW; Washington, DC 20460; (202) 564-9870; banks.julius@epa.gov. EPA publishes information concerning certified refrigerant reclaimers online at http://www.epa.gov/ozone/title6/608/reclamation/reclist.html. The Stratospheric Ozone Information Hotline can also be contacted for further information at (800) 296-1996.

Dated: September 13, 2002.
Brian McLean,
Director, Office Of Atmospheric Programs.

[FR Doc. 02-24646 Filed 9-26-02; 8:45 am]

BILLING CODE 6560-50-P